DEPARTMENT OF TRANSPORTATION

Office of the Secretary of Transportation

[Docket Nos. OST-2006-26266, FHWA-2006-26270, FTA-2006-26269, RITA-2006-26271]

Applications for Urban Partnership Agreements as Part of Congestion Initiative

AGENCIES: Office of the Secretary of Transportation (“OST”), Federal Highway Administration (“FHWA”), Federal Transit Administration (“FTA”), Research and Innovative Technology Administration (“RITA”)

ACTION: Notice of solicitation for applications to enter into urban partnership agreements with the U.S. Department of Transportation.

SUMMARY: In May 2006, the U.S. Department of Transportation (the “Department”) announced its National Strategy to Reduce Congestion on America's Transportation Network (the “Congestion Initiative”), a bold and comprehensive national program to reduce congestion on the Nation's roads, rails, runways, and waterways. One major component of the Congestion Initiative is the Urban Partnership Agreement (“UPA”). The purpose of this Notice is to solicit proposals by metropolitan areas to enter into UPAs with the Department in order to demonstrate strategies with a combined track record of effectiveness in reducing traffic congestion. To support congestion-reducing strategies adopted by the Department's urban partners (“Urban Partners”), the Department expects to utilize discretionary funding available under the Department's Intelligent Transportation System Operational Testing to Mitigate Congestion Program (the “ITS-OTMC Program”), its Value Pricing Pilot Program (the “VPP Program”), and other discretionary grant, lending and credit support programs administered by the Department. In addition, to the maximum extent possible, the Department will support its Urban Partners with regulatory flexibility and dedicated expertise and personnel.

This Notice is the first of three solicitations to be issued by the Department in connection with the Congestion Initiative. See below SUPPLEMENTARY INFORMATION: Coordination with Other Congestion Initiative Solicitations.”

The Department reserves the right to solicit, and is actively soliciting, by means other than this Notice, certain metropolitan areas that the Department has determined, on a preliminary basis, to be candidates for UPAs. Neither the procedures nor the criteria set forth in this Notice shall be binding on the Department.

DATES: Applicants wishing to become Urban Partners must submit their application on or before April 30, 2007. Applicants wishing to become Urban Partners who intend to apply for funding under the VPP and ITS-OTMC Programs must submit separate applications to the VPP and ITS-OTMC Programs on or before April 30, 2007, in accordance with the requests for proposals for those programs to be published by the Department in the Federal Register this month. See SUPPLEMENTARY INFORMATION: Coordination with Other Congestion Initiative Solicitations.” Late-filed applications for designation as an Urban Partner and for funding under the VPP and ITS-OTMC Programs will be considered to the extent practical.

ADDRESSES: Applicants wishing to become Urban Partners may send three copies of their application by U.S. Post or express mail to: Thomas M. McNamara, Office of the Assistant Secretary for Transportation Policy, U.S. Department of Transportation, Room 10305 (P-20), 400 7th Street, SW., Washington, DC 20590. Alternatively, applicants may file applications via e-mail to Thomas M. McNamara at thomas.mcnamara@dot.gov.

Only applications received via U.S. Post, express mail or e-mail, in each case as provided above, shall be deemed properly filed.

FOR FURTHER INFORMATION CONTACT: Please address questions concerning this Notice to David B. Horner, Esq., Chief Counsel, Federal Transit Administration, U.S. Department of Transportation, via e-mail at david.horner@dot.gov. Please address technical questions concerning project development to either Thomas M. McNamara at 202-366-4462 (or by e-mail at thomas.mcnamara@dot.gov) or Patrick DeCorla-Souza at 202-366-4076 (or by e-mail at patrick.decorla-souza@dot.gov).

SUPPLEMENTARY INFORMATION:

A. Background

Crisis of Congestion. Traffic congestion affects virtually every aspect of peoples' lives—where people live, where they work, where they shop, and how much they pay for goods and services. According to 2003 figures, in certain metropolitan areas the average rush hour driver loses as many as 93 hours per year to travel delay—equivalent to more than two weeks of work, amounting annually to a virtual “congestion tax” as high as $1,598 per traveler in wasted time and fuel.¹ Nationwide, congestion imposes costs on the economy of over $65 billion per year,² a figure that has more than doubled since 1993, and that would be even higher if it accounted for the significant cost of unreliability to drivers and businesses, the environmental impacts of idle-related auto emissions, or increased gasoline prices.

¹ Texas Transportation Institute (“TTI”), 2005 Urban Mobility Report, May 2005 (http://tti.tamu.edu/documents/mobility_report_2005.pdf), Tables 1 and 2.

² TTI, 2005 Urban Mobility Report, p. 1.

Traffic congestion also has a substantial negative impact upon the quality of life of many American families. In a 2005 survey, for example, 52% of Northern Virginia commuters reported that their travel times to work had increased in the past year,³ leading 70% of working parents to report having insufficient time to spend with their children and 63% of respondents to report having insufficient time to spend with their spouses.⁴ Nationally, in a 2005 survey conducted by the National League of Cities, 35% of U.S. citizens reported traffic congestion as the most deteriorated living condition in their city over the past five years; 85% responded that traffic congestion was as bad or worse than the previous year.⁵ Similarly, in a 2001 survey conducted by the U.S. Conference of Mayors, 79% of Americans from 10 metropolitan areas reported that congestion has worsened over the past five years; 50% believe it has become “much worse.” ⁶

³ Northern Virginia Transportation Alliance 2005 Survey (http://www.nvta.org/content.asp?contentid=1774).

⁴ Virginia Department of Transportation.

⁵ National League of Cities survey of cities (2005).

⁶ U.S. Conference of Mayors survey on traffic congestion (2001).

The Urban Partnership Agreement. In May 2006, the Department announced its National Strategy to Reduce Congestion on America's Transportation Network (the “Congestion Initiative”), a bold and comprehensive national program to reduce congestion on the nation's roads, rails, runways, and waterways. One major component of the Congestion Initiative is the Urban Partnership Agreement (“UPA”), through which the Department plans to partner with certain metropolitan areas or “Urban Partners” in order to demonstrate strategies with proven effectiveness in reducing traffic congestion. Under UPAs, the Department and its Urban Partners would agree to pursue four strategies with a combined track record of effectiveness in reducing traffic congestion, known as the “Four Ts:”

1. Tolling: Implementing a broad congestion pricing or variable toll demonstration;

2. Transit: Creating or expanding express bus services, bus rapid transit (“BRT”) or other innovative commuter transit services, which would benefit from the free-flow traffic conditions generated by pricing;

3. Telecommuting: Securing agreements from major area employers to establish or expand telecommuting and flex scheduling programs; and

4. Technology & operations: Utilizing cutting edge technological and operational approaches to improve transportation system performance.

In return for their commitment to adopt innovative, system-wide solutions to traffic congestion, the Department, to the maximum extent possible, would support its Urban Partners with the Department's financial resources (including a combination of grants, loans, and borrowing authority), regulatory flexibility and dedicated expertise and personnel.

Congestion Pricing. The most innovative—and often misunderstood—component of the UPA is congestion pricing. Congestion pricing leverages the principles of supply and demand to manage traffic. It does this by charging drivers a user fee that varies by traffic volumes or time of day, thus managing highway resources in a manner that promotes free-flow traffic conditions on highways at all times. Congestion pricing achieves free-flow conditions by shifting purely discretionary rush hour highway travel to other transportation modes or to off-peak periods, taking advantage of the fact that many rush hour drivers on a typical urban highway are not commuters. By removing a fraction of the vehicles from a congested rush hour roadway, pricing enables the system to flow much more efficiently, allowing more cars to move through the same physical space. Similar variable charges have been successfully utilized in other industries (airline tickets, cell phone rates, and electricity, for example), and there is a consensus among economists that congestion pricing represents the single most viable approach to reducing traffic congestion.

Congestion pricing benefits drivers and businesses by reducing delays and stress, increasing the predictability of trip times, and allowing for more deliveries per hour. It benefits mass transit by improving transit speeds and the reliability of transit service, increasing transit ridership, and lowering costs for transit providers. It benefits State and local government by improving the quality of transportation services without tax increases or large capital expenditures, providing additional revenues for funding transportation, retaining businesses and expanding the tax base. It saves lives by shortening incident response times for emergency responders. And it benefits society as a whole by reducing fuel consumption and vehicle emissions, allowing for more efficient land use decisions, reducing housing market distortions, and expanding opportunities for civic participation.

Congestion pricing is no longer simply a theory; it has demonstrated positive results both here in the U.S. and around the world. Successful American applications of congestion pricing include California's SR-91 between Anaheim and Riverside, portions of I-15 outside of San Diego, and Express Lanes on I-394 between downtown Minneapolis and the western suburbs, all of which have enabled congestion-free rush hour commuting and proven popular with drivers of all income levels. Internationally, congestion pricing has yielded dramatic reductions in traffic congestion and increases in travel speeds in Singapore, London, and Stockholm. Notably, a small reduction in vehicles can yield dramatic improvements in traffic, as demonstrated by a British study, which projected that a 9% drop in traffic could yield a 52% drop in congestion delay.⁷ This same dynamic plays out in metropolitan areas every August, as family vacations lead to a minor decrease in rush hour drivers, which substantially reduces area traffic congestion.

⁷ Department of Transport, U.K., Feasibility Study of Road Pricing in the U.K.: A Report to the Secretary of State for Transport, Road Price Steering Group, Chapter 4, Figure 3.

Transit. Another critical congestion-reducing strategy to be incorporated into UPAs is increasing the quality and capacity of peak-period transit service in order to offer a more attractive alternative to automobile travel and to accommodate peak-period commuters who elect to switch to transit in response to the imposition of congestion pricing.

Congestion pricing and public transportation convey mutual benefits-road pricing benefits public transportation by improving transit speeds and the reliability of transit service, increasing transit ridership, lowering costs per rider for transit providers, and expanding the source of revenue that may be used for transit, while public transportation benefits road pricing by absorbing commuters who shift their travel from automobile to bus or rail. By replacing congested traffic with free-flowing conditions on major routes, congestion pricing will improve the speed and productivity of current express bus services, making them more attractive to commuters while reducing their operating costs. Reducing congestion will also facilitate rapid deployment of innovative, high-performance BRT operations in major corridors, which require only modest investments in new vehicles and passenger facilities that may be eligible for financial support through the Department's various funding mechanisms. Improving the performance and variety of peak-period transit commuting options through a combination of congestion pricing and limited capital investment will provide significant benefits to current transit riders, while improving transit's effectiveness in reducing peak-period auto travel and providing the expanded passenger-carrying capacity necessary to accommodate shifts to transit commuting induced by the imposition of congestion pricing.

Telecommuting. The third critical congestion-reducing strategy for Urban Partners to adopt is promoting increased use of telecommuting and flexible work scheduling, in order to reduce peak-period commuting and shift some commuting travel to “shoulder” or off-peak hours. Telecommuting can eliminate some peak-period commuting travel by using computer and electronic communications technology to enable certain employees to work from their homes or nearby telecommuting centers on predetermined (often regularly scheduled) workdays, or in some cases on a full-time basis. Flexible work schedules allow employees to shift their commute trips from the peak period to less congested hours. The most promising means to achieve these objectives is for public officials representing Urban Partners to secure agreements from major employers in their metropolitan areas to establish or expand telecommuting programs, and to offer flexible work schedules to the maximum number of their employees. The Department and local transportation planning agencies can offer technical and logistical support to employers for designing, implementing, and monitoring the effectiveness of telecommuting programs and flexible work scheduling.

Technology. Technology makes possible congestion pricing, which differs from traditional tolling in two material respects: (1) Instead of charging a fixed fee, congestion pricing manages traffic by charging drivers a user fee that varies by traffic volumes or time of day, thus balancing supply and demand; and (2) unlike traditional tolling, congestion fees are collected electronically at highway speeds. With variable pricing, technology affords highway managers the flexibility of setting user fees by time of day or “dynamically”—by increasing or decreasing fees depending on traffic volumes to maximize throughput and the free flow of traffic. Technology facilitates this variability by enabling the collection of user fees at highway speeds through the use of transponders, Global Positioning Systems (“GPS”), or cameras. With transponders, or “tags,” tolls may be collected as vehicles pass under overhead antennae. With GPS technology, like that used on Germany's autobahns, an in-vehicle device records charges based on the vehicle's location, and periodically uploads a summary of charges to a processing center along with payments. And with cameras, highway managers can record the identity of vehicles that are not equipped with a transponder or GPS unit.

In addition, technological advancements may enhance the quality of transit service deployed to reduce urban congestion. These technology-based improvements may include lane-keeping devices or longitudinal control designed to enhance spatial efficiency on existing highways, precision docking, signal priority systems for buses, contactless fare collection, real-time travel information (bus arrival times, schedules, etc.), advanced traveler information systems, parking alerts and automatic vehicle locator systems.

Other technological innovations that may help reduce congestion include:

• Telecommuting technology, including high-speed wireless internet service to allow download of large files, called “WiMax.”

• Traffic management technology, including adaptive traffic signal control systems and the use of cameras to provide real-time information to first responders that will help them determine what equipment they will need before they arrive at the site of an accident or incident.

• Advanced traveler information systems that include web or wireless access to route-specific travel time and toll information; route planning assistance using historical records of congestion by time of day; and communications technologies that gather traffic- and incident-related data from a few vehicles traveling on a roadway and then publish that information to drivers via mobile phones, in-car units or dynamic message signs.

B. Funding Urban Partnership Agreements

The Department proposes to support UPAs with some or all of the resources listed below. Please note, however, that the Department does not intend for UPAs to replace the VPP or ITS-OTMC Programs; instead, applicants wishing to become Urban Partners who intend to pursue grants, loans or credit support under the programs below should apply separately to such programs on or before April 30, 2007. With respect to the ITS-OTMC and VPP Programs, the Department will publish separate requests for proposals in the Federal Register this month. See below SUPPLEMENTARY INFORMATION Coordination with Other Congestion Initiative Solicitations.”

1. Intelligent Transportation Systems Funding: Since enactment of the Intermodal Surface Transportation Efficiency Act of 1991 (“ISTEA”), the Department has been administering the Intelligent Transportation Systems (“ITS”) Program. In its discretion, the Department may provide Urban Partnerships up to $100 million of ITS research and development funds over three years through the ITS-OTMC Program to be established by the Department as part of the ITS Program. The Department may also continue or modify existing or currently proposed programs or initiatives under the ITS Program to support the Department's Urban Partners.

A primary objective of the ITS Program has been the development and operational testing of systems and strategies to reduce congestion in urban areas. As a result, the program has focused considerable attention on the development of various products oriented towards congestion mitigation, such as electronic toll collection, advanced real-time adaptive traffic signals, transit signal priority systems, innovative surveillance systems, improved incident detection and response systems, advanced transit management systems, and multi-modal traveler information systems. These and other congestion-mitigation strategies have been shown to be very effective in improving overall traffic operations and reducing congestion. In reauthorizing the ITS Program, section 5306 of the recently-enacted Safe, Accountable, Flexible, Efficient Transportation Equity Act: A Legacy for Users (“SAFETEA-LU”) requires the Department to continue to invest in technologies and systems that can aid in reducing congestion by five percent by 2010. Given the increasing demand on the Nation's surface transportation system, this ambitious goal will require bold, innovative approaches. Projects the Department will consider for funding through the ITS-OTMC Program would incorporate strategies comprised of the “Four Ts.” Such projects could also include: Advanced traffic signal control, innovative incident detection and management strategies, integrated corridor management, real-time traveler information, parking management tied to transit service, innovative traveler information services, managed lanes, ramp control, technology enhanced bus rapid transit systems, freight management, or other innovative and aggressive technology-based congestion mitigation strategies.

2. Value Pricing Pilot Program Grants: Since the enactment of ISTEA, the Department has also been administering the VPP Program, a specific congestion-related deployment and evaluation program, formerly known as the Congestion Pricing Pilot Program. The VPP Program provides grants and tolling authority to up to 15 States or other jurisdictions. It provides crucial support for pre-implementation and implementation activities aimed at demonstrating how pricing improves transportation services, specifically for highway and transit related travel. The Department may award a significant portion of the discretionary funding available under the VPP Program to support its Urban Partners.

3. Small Starts Funding: The Small Starts program administered by the Federal Transit Administration (“FTA”) provides up to $75 million per project for qualifying transit projects, with a focus on less-capital intensive projects such as bus rapid transit. In its recently issued guidance on Small Starts, the Department noted that because congestion is one of the Nation's most daunting transportation challenges, FTA will facilitate worthy projects that are a significant element of a comprehensive congestion reduction strategy, especially when such projects incorporate pricing strategies. Final funding decisions are made by Congress in response to recommendations by FTA. Projects sponsored by the Department's Urban Partners would be candidates for Small Starts funding.

4. Private Activity Bonds: The Department has the authority to issue Private Activity Bonds to qualifying projects, lowering the cost of capital required to construct transportation facilities. The overall program allows for the issuance of up to $15 billion in bonds, some of which could be applied toward projects sponsored by the Department's Urban Partners.

5. TIFIA Loans and Credit Assistance: The Department's program administered under the Transportation Infrastructure Finance and Innovation Act (“TIFIA”) can issue direct loans, loan guarantees, and standby lines of credit to qualifying projects. The overall program allows for the support of approximately $10 billion in credit assistance, some of which could be applied toward projects sponsored by the Department's Urban Partners.

6. Other Assistance. The Department may also provide its Urban Partners with the authority to institute tolls on portions of their respective Interstate systems ⁸ and expedite project delivery by waiving certain FHWA regulations (in accordance with FHWA's Special Experimental Project (or “SEP-15”) program or as otherwise permitted by law), and placing key projects on the Environmental Stewardship Executive Order, allowing for the streamlining of some aspects of the environmental review process. Finally, the Department may offer extensive technical expertise and advice from world class engineers and economists.

⁸ As enacted by SAFETEA-LU, the High Occupancy Vehicle (“HOV”) Facilities Program (23 U.S.C. 166) allows States and localities to convert HOV lanes to high occupancy toll (“HOT”) lanes which allow low-occupant vehicle users to pay for the chance to travel on underutilized HOV lanes, shifting traffic from congested regular lanes to HOV lanes, while maintaining free-flowing travel speeds and vehicle throughput performance for all vehicles on the HOV lanes. When operated in parallel with general purpose lanes, HOT lanes offer drivers an option to pay for congestion-free predictable trips when they need it the most, while improving the performance of general purpose lanes. In coordination with 23 U.S.C. 166, FTA has recently published proposed guidance that, once adopted as final, would eliminate certain existing disincentives to jurisdictions to convert their HOV lanes to HOT lanes. In particular the proposed guidance describes the terms and conditions on which FTA would classify HOV lanes that are converted to HOT lanes as “fixed guideway miles” for purposes of the transit funding formulas administered by FTA. See “Policy Statement on When High-Occupancy Vehicle Lanes Converted to High-Occupancy/Toll Lanes Shall Be Classified as Fixed Guideway Miles for FTA's Funding Formulas and When HOT Lanes Shall Not Be Classified as Fixed Guideway Miles for FTA's Funding Formulas” (http://a257.g.akamaitech.net/7/257/2422/01jan20061800/edocket.access.gpo.gov/2006/pdf/E6-14796.pdf).

Please note that designation as an Urban Partner does not, by itself, qualify a party for any grant or funding amount. However, Urban Partners will receive preferential treatment under the ITS-OTMC and VPP Programs in accordance with their terms and certain other discretionary programs administered by the Department. An Urban Partner will also receive the commitment of the Department's leadership to work directly with the Urban Partner in solving its congestion problems.

C. Coordination With Other Congestion Initiative Solicitations

This solicitation is one of three related solicitations being issued by the Department in connection with the Congestion Initiative. To be published separately in the Federal Register this month, the other two solicitations are:

1. Solicitation for the VPP Program. The VPP Program, as reauthorized in SAFETEA-LU, supports implementation of a variety of pricing-based approaches for managing congestion on highways. The forthcoming solicitation for the VPP Program will align the program with the Congestion Initiative to support metropolitan areas in implementing broad congestion pricing strategies in the near term.

2. Solicitation for the Intelligent Transportation System Operational Testing to Mitigate Congestion Program. The ITS Research and Development program, as reauthorized in SAFETEA-LU, supports the research, development and testing of ITS for a variety of purposes. The forthcoming solicitation for the ITS-OTMC Program will support the operational testing and evaluation of advanced technologies to reduce metropolitan congestion.

Please note: If an applicant wishing to become an Urban Partner intends to apply for funding under both the VPP and ITS-OTMC Programs, the applicant must apply to each program by submitting to each program identical copies of a single application that is responsive to both programs' requests for proposals. The Department will publish both programs' requests for proposals in the Federal Register this month.

D. Preliminary Urban Partner Designation; Urban Partner Designation

Step One. Applications to become Urban Partners must be submitted on or before April 30, 2007 (with late-filed applications being considered to the extent practical). See below SUPPLEMENTARY INFORMATION: “Contents of UPA Application” for instructions concerning the content of applications to become an Urban Partner.

Step Two. The Department will designate certain applicants as Preliminary Urban Partners on or before June 8, 2007. The Department expects to select up to 10 Preliminary Urban Partners. Please note that designation as a Preliminary Urban Partner does not, by itself, qualify a party for any grant or funding amount. However, it will qualify the designee to continue discussions with the Department to become an Urban Partner.

Step Three. The Department will work towards selecting Urban Partners by continuing discussions with its Preliminary Urban Partners to determine whether an Urban Partnership is feasible.

Step Four. Following negotiations, the Department will announce its Urban Partners by August 8, 2007, along with funding decisions under the VPP and ITS-OTMC Programs. Please note that designation as an Urban Partner does not, by itself, qualify a party for any grant or funding amount. However, the designation will afford Urban Partners preferential treatment under certain of the Department's discretionary grant funding programs, such as the ITS-OTMC and VPP Programs, in accordance with their terms. Designation as an Urban Partner will also provide the designee with the commitment of the Department's leadership to work directly with the Urban Partner in solving its congestion problems.

Step Five. The Department will sign UPAs as soon as possible after selecting its Urban Partners. The Department expects implementation or pre-implementation efforts for the proposed congestion reduction activities to commence shortly after the UPA is signed.

Signatories to UPAs may include city and county governments, metropolitan planning organizations, State transportation departments, chambers of commerce, academic institutions, citizen advisory groups, or other responsible organizations that seek to resolve major congestion problems (any of whom may apply to become an Urban Partner).

E. Contents of UPA Application

An application to become an Urban Partner should briefly describe, with respect to the metropolitan area proposed, (i) Why its traffic congestion is severe, (ii) the local public's acknowledgement of the problem, (iii) the readiness of area's political leadership to solve the problem and (iv) a solution to congestion that incorporates the Four Ts. In addition, an application should be responsive to the specifications and criteria set forth below. The Department recognizes that information provided in an application to become an Urban Partner may be preliminary and incomplete. If the Department selects an applicant to be a Preliminary Urban Partner, the Department may ask the Preliminary Urban Partner to supplement the data in its application to the extent practical.

1. Length of Applications: An application should not exceed 25 pages in length, including both the proposal details and appendix materials. Appendix materials may include maps of roadways and other affected facilities (such as bridges and parallel routes), maps of BRT routes and other transit services or facilities that are directly involved and a list of possible local employers that might endorse new or expanded telecommuting and flextime policies for its employees.

2. Participating Parties: An application should provide a preliminary, non-binding list of the parties likely to participate in the Urban Partnership.

3. Comprehensive Congestion Reduction Strategy: An application should generally describe the metropolitan area's proposed comprehensive congestion reduction strategy, and explain how different parts of that strategy, if any, would interact to reduce congestion.

4. Congestion Pricing Measures and Affected Areas: An application should describe the role pricing would play in the congestion reduction strategy. To the extent practical, an application should indicate, in specific terms, how traffic would be affected, what areas or routes would be priced, how congestion prices would be determined, and which vehicle categories would be affected (e.g., single occupant vehicles or all vehicles). If the proposed congestion pricing configuration contemplates a cordon pricing system, then the application should specify the approximate area (e.g., 10 square miles surrounded by certain highways or natural boundaries).

5. Transit Services: An application should describe transit services, including BRT and other commuter transit services that are to be provided or supplemented, and the expected impacts of the expanded transit services on congestion. The application should also describe transit fare pricing policies to be adopted with the objective of increasing traveler throughput during peak traffic periods, while avoiding excessive congestion in the transit system.

6. Telecommuting: An application should indicate telecommuting, flex-time, and various related employer-employee policies to be adopted, including likely employer participants and the number and location of employees affected. These proposed non-pricing demand management activities need not be limited to telecommuting or flex-time schedules, and they may include activities like parking cash-outs or other suitable incentives that seek to reduce peak-hour, drive-alone travel.

7. Expedited Project Completion: An application should indicate any major transportation projects or project components that are sought to be expedited through an UPA. The application should also indicate the expected effects on congestion from early completion of these projects.

8. Travelers Affected Daily: An application should indicate the estimated number of daily travelers that will be directly affected by priced facilities and by other measures expected to be adopted by the Urban Partner. This should include the estimated number of persons (vehicles) that will pay congestion charges, as well as the likely number diverted to other travel times, routes, or other transportation services, such as transit. Similarly, if telecommuting is to be adopted, the application should indicate the estimated number of daily employee participants.

9. Use of Technology: An application should clearly indicate the extent to which a locality plans to operationally test innovative technology in achieving its congestion reduction targets.

10. Research, Planning, and Experience To Date: An application should indicate the prior work that participating parties (e.g., the candidate city or other jurisdictions) have already done to reduce congestion, including research, planning, and actual implementation of congestion related activities in the metropolitan area.

11. Other Time-Frame Considerations: An application should indicate the dates during which applicants expect to conduct congestion reduction activities (e.g., a seven-month trial from June 1, 2008 until December 31, 2008). If the applicant expects the activities to continue indefinitely, the application should indicate this fact. Similarly, if the pricing activity is adopted on a temporary, experimental basis and the applicant expects it to be voted on by citizens of the jurisdictions participating in an Urban Partnership or otherwise considered for continuation, the application should provide this information.

12. Funding Support: An application should indicate the estimated cost to implement the overall congestion reduction strategy. An application should also indicate the anticipated sources of those funds, including the amount requested to be covered by Federal sources.

13. Contact Information: An application should clearly indicate contact information, including name, organization, address, phone number, and e-mail address. The Department will use this information to inform parties of the Department's decision regarding selection of interested parties, as well as to contact parties in the event that the Department needs additional information about an application.

F. Consideration of Applications

The Department will review and consider applications upon receipt. The Department will consider a variety of factors in reviewing applications seeking designations an Urban Partner, including whether proposals:

• Are likely to be successfully implemented;

• Affect the most daily surface transportation travelers;

• Produce the greatest potential reduction in overall traffic congestion;

• Provide the greatest congestion-reduction benefits per dollar of Federal support;

• Provide the most cost-effective means of reducing traffic congestion; and

• Demonstrate innovative and potentially far-reaching technology applications.

This Notice is not the sole means by which the Department is soliciting candidates for UPAs. The Department reserves the right to solicit, and is actively soliciting, by means other than this Notice, certain metropolitan areas that the Department has determined, on a preliminary basis, to be candidates for UPAs. Neither the procedures nor the criteria set forth in this Notice shall be binding on the Department.

Issued On: November 7, 2006.
Maria Cino,
Deputy Secretary.

[FR Doc. E6-20924 Filed 12-7-06; 8:45 am]

BILLING CODE 4910-9X-P